DEPARTMENT OF THE INTERIOR

National Park Service

[NPS-WASO-NAGPRA-NPS0036805; PPWOCRADN0-PCU00RP14.R50000]

Notice of Inventory Completion Amendment: Robert S. Peabody Institute of Archaeology, Andover, MA

AGENCY: National Park Service, Interior.

ACTION: Notice; amendment.

SUMMARY: In accordance with the Native American Graves Protection and Repatriation Act (NAGPRA), the Robert S. Peabody Institute of Archaeology has amended a Notice of Inventory Completion published in the Federal Register on February 26, 2015. This notice amends the number of associated funerary objects in a collection removed from Middlesex County, MA.

DATES: Repatriation of the human remains and associated funerary objects in this notice may occur on or after November 24, 2023.

ADDRESSES: Ryan Wheeler, Robert S. Peabody Institute of Archaeology, Phillips Academy, 180 Main Street, Andover, MA 01810, telephone (978) 749-4493, email rwheeler@andover.edu.

SUPPLEMENTARY INFORMATION: This notice is published as part of the National Park Service's administrative responsibilities under NAGPRA. The determinations in this notice are the sole responsibility of the Robert S. Peabody Institute of Archaeology. The National Park Service is not responsible for the determinations in this notice. Additional information on the amendments and determinations in this notice, including the results of consultation, can be found in the inventory or related records held by the Robert S. Peabody Institute of Archaeology.

Amendment

This notice amends the determinations published in a Notice of Inventory Completion in the Federal Register (80 FR 10501-10505, February 26, 2015). Repatriation of the items in the original Notice of Inventory Completion has not occurred. In late November 2022, the Robert S. Peabody Institute of Archaeology received additional archeological material amassed by the late Eugene Winter. The cremated remains of one or more individuals from the Poznick site (19-MD-47, 19-MD-158) were identified, along with associated funerary objects from the Poznick site and the Call site (19-MD-37).

From the Poznick Site (also known as Trull Farm and Meghann Lane, 19-MD-47, 19-MD-158) in Middlesex County, MA, two individuals were removed (previously identified as one individual). The 40 funerary objects (previously identified as 0 associated funerary objects) are two ceramic sherds; five lots consisting of lithics; one lot consisting of bone fragments; four lots consisting of lithic debitage; three lots consisting of unmodified stone; one lot consisting of bone fragments, ceramic sherds and charcoal; one lot consisting of ground stone objects, possible hammerstones, lithic flakes/debitage, quartz flakes, ceramic sherds, bone fragments, and unmodified stones; 17 lots consisting of lithics, debitage, ceramic sherds, charcoal, soil, and ground stone tools; one lot consisting of quartz flakes, flake shatter, ground stone objects, and soil; one lot consisting of a quartz scraper, flake shatter, and unmodified stones; and four soil samples.

From the Call Site (19-MD-37) in Middlesex County, MA, 69 funerary objects are identified as associated with the remains of the two individuals identified in the previous notice (previously, 66 associated funerary objects were identified). These associated funerary objects are two chipped stone projectile points, two pottery sherds, six burned animal bone fragments, two small flat pebbles, one charcoal sample, 43 chipped stone flakes, 10 unmodified rocks, and three soil samples.

Determinations (as Amended)

Pursuant to NAGPRA and its implementing regulations, and after consultation with the appropriate Indian Tribes and Native Hawaiian organizations, the Robert S. Peabody Institute of Archaeology has determined that:

• The human remains represent the physical remains of 16 individuals of Native American ancestry.

• The 186 objects described in this amended notice are reasonably believed to have been placed with or near individual human remains at the time of death or later as part of the death rite or ceremony.

• There is a relationship of shared group identity that can be reasonably traced between the human remains and associated funerary objects described in this notice and the Mashpee Wampanoag Tribe, and the Wampanoag Tribe of Gay Head (Aquinnah).

Requests for Repatriation

Written requests for repatriation of the human remains and associated funerary objects in this notice must be sent to the Responsible Official identified in ADDRESSES. Requests for repatriation may be submitted by:

1. Any one or more of the Indian Tribes identified in this notice and, if joined to a request from one or more of the Indian Tribes, the Assonet Band of the Wampanoag Nation, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 24, 2023. If competing requests for repatriation are received, the Robert S. Peabody Institute of Archaeology must determine the most appropriate requestor prior to repatriation. Requests for joint repatriation of the human remains and associated funerary objects are considered a single request and not competing requests. The Robert S. Peabody Institute of Archaeology is responsible for sending a copy of this notice to the Indian Tribes identified in this notice.

Authority: Native American Graves Protection and Repatriation Act, 25 U.S.C. 3003, and the implementing regulations, 43 CFR 10.9, 10.10, 10.13, and 10.14.

Dated: October 18, 2023.
Melanie O'Brien,
Manager, National NAGPRA Program.

[FR Doc. 2023-23548 Filed 10-24-23; 8:45 am]

BILLING CODE 4312-52-P